DEPARTMENT OF HOUSING AND URBAN DEVELOPMENT

[Docket No. FR-5130-N-16]

Privacy Act of 1974; Notice of a New System of Records, Single Family Default Monitoring System

AGENCY: Office of the Chief Information Officer, HUD.

ACTION: Notice of a new System of Records.

SUMMARY: Pursuant to the provisions of the Privacy Act of 1974 (5 U.S.C. 552a), HUD's Single Family Housing, Office of Evaluation is providing notice of its intent to establish a new record system, entitled the Single Family Default Monitoring System (SFDMS). The new record system contains information on FHA mortgage loans that are 90 days or more delinquent on a mortgage payment. The system will be utilized to track debt servicing activities submitted to the Department on behalf of the mortgagee's or loan servicer.

DATES: Effective Date: This action shall be effective without further notice on December 20, 2007 unless comments are received which will result in a contrary determination.

Comments Due Date: December 20, 2007.

ADDRESSES: Interested persons are invited to submit comments regarding this notice to the Rules Docket Clerk, Office of General Counsel, Department of Housing and Urban Development, 451 Seventh Street, SW., Room 10276, Washington, DC 20410-0500. Any communications should make reference to the above docket number and title. A copy of each communication submitted will be available for public inspection and copying between 8 a.m. and 5 p.m. weekdays at the above address.

FOR FURTHER INFORMATION CONTACT: The Departmental Privacy Act Officer, 451 Seventh Street, SW., Room 4156, Washington, DC 20410, telephone number (202) 619-9057. (This is not a toll-free number.) A telecommunication device for hearing- and speech-impaired individuals (TTY) is available at (800) 877-8339 (Federal Information Relay Service).

SUPPLEMENTARY INFORMATION: Title 5 U.S.C. 552a(e)(4) and (11) provides that the public be afforded a 30-day period in which to comment on the new systems of records, and require published notice of the existence and character of the system of records.

The new system report was submitted to the Office of Management and Budget (OMB), the Senate Committee on Homeland Security and Governmental Affairs, and the House Committee on Oversight and Government Reform pursuant to paragraph 4c of Appendix 1 to OMB Circular No. A-130, “Federal Agency Responsibilities for Maintaining Records About Individuals,” July 25, 1994 (59 FR 37914).

Authority: 5 U.S.C. 552a 88 Stat. 1896; 342 U.S.C. 3535(d).

Dated: November 9, 2007.
Walter Harris,
Acting Chief Information Officer.

HUD/SFH-01

System name:

Single Family Default Monitoring System, SFDMS, F42D.

System location:

HUD Headquarters.

Categories of individuals covered by the system:

Single-family FHA loan borrowers and mortgagors.

Categories of records in the system:

FHA insured loan borrowers who are late in their monthly mortgage payment to their FHA loan financial institution. Information includes borrowers and mortgagors name, property address, Social Security Number, FHA Case Number, ADP Code, case file number, Notices of delinquent mortgages; requests for forebearance or assignment; forebearances or assignment reviews include data on mortgage amount and payments made, employment and income, financial institution names and routing numbers, mortgagor's account number, debts and expenses, reasons for delinquency, recommendations and actions on requests; credit reports; forebearance agreements; deeds of trust; and related correspondence.

Authority for maintenance of the system:

National Housing Act of 1934, Pub.L. 73-479, Sec. 209; Sec. 114(a), Housing Act of 1959 (Pub. L. 86-372), 12 U.S.C. 1702 et seq.

Purposes:

The Single Family Default Monitoring System is a subsystem of F42. When a mortgage is 90 or more days or more delinquent, the Mortgagee or Servicer must submit a Single Family Form 92068-a to HUD on a monthly basis until its status has been completed by all Mortgagees and/or is terminated or deleted. Mortgagees and Servicers provide default data via Electronic Data Interchange (EDI) or using the WEB via FHA connection to HUD where they are sorted, pre-screened, key entered, edited, processed and reports are generated for HUD Headquarters and Field Offices review.

Routine uses of records maintained in the system, including categories of users and the purposes of such uses:

In addition to those disclosures generally permitted under 5 U.S.C. 552a(b) of the Privacy Act, other routine uses are as follows: Disclosure external to HUD:

(a) To FHA—for insurance investigations and underwriting.

(b) To the Internal Revenue Service and the General Accounting Office for investigations.

(c) To state banking agencies to aid in processing mortgagor complaints.

(d) To mortgagees—to verify information provided by new loan applicants and to evaluate credit worthiness.

(e) To counseling agencies for counseling.

(f) To Legal Aid—to assist mortgagors.

(g) To other Federal agencies for the purposes of collecting debts owed to the Federal Government by administrative or salary offset.

(i) To prospective purchasers—for sale of mortgages, loans or insurance premiums or charges.

Internal HUD Systems:

(a) To CAIVRS (Credit Alert Interactive Verification Response System) which is a HUD-sponsored database that makes a federal debtor's delinquency and claim information available to federal lending and assistance agencies and private lenders who issue federally insured or guaranteed loans for the purpose of evaluating a loan applicant's creditworthiness.

(b) To Single Family Housing Enterprise Data Warehouse—The delinquency and default data is contained in SFDW for allowing FHA officials and employees to view Single Family insured loans from cradle to grave. This comprehensive and unique view allows staff to help troubled homeowners through referrals to counseling agencies or refinancing/workout agreements. FHA staff also uses the data to review underwriting policy and perform additional risk analysis including actuarial soundness.

(c) To Single Family Neighborhood Watch—The lenders use this system to provide error feedback; and to view the data they have submitted over time and compare their performance to the industry average in various geographical areas including metropolitan area.

Policies and practices for storing, retrieving, accessing, retaining, and disposing of records in the system:

Storage:

magnetic tapes, drums, and discs.

Retrievability:

Name; case file number, property address and social security number.

Safeguards:

Computer facilities are secured and accessible only by authorized personnel, and all files are stored in a secured area.

Technical restraints are employed with regard to accessing the computer and data files. Records maintained in desks and lockable file cabinets; access to automated systems is by passwords and code identification cards access limited to authorized personnel.

Retention and disposal:

Records system is active and kept up-to-date. All electronic records are maintained in the system and not removed. Paper records do not exist.

System manager(s) and address:

Director, Office and Evaluation, HWE, Department of Housing and Urban Development, 451 Seventh Street, SW., Room 2228, Washington, DC 20410; Director, Single Family Servicing Division, HSSI, Department of Housing and Urban Development, 451 Seventh Street, SW., Washington, DC 20410.

Notification and record access procedures:

The Department's rules for providing access to records to the individual concerned appear in 24 CFR part 16. For information, assistance, or inquiry about existence of records, contact the Departmental Privacy Act Officer, 451 Seventh Street, SW., Room 4156, Washington, DC 20410. Written request must include the full name, current address, and telephone number of the individual making the request, including a description of the requester's relationship to the information in question. The system manager will also accept inquires from individuals seeking notification of whether the system contains records pertaining to them.

Contesting record procedures:

The Department's rules for contesting the contents of records and appealing initial denials, by the individual concerned, appear in 24 CFR part 16. If additional information or assistance is needed, it may be obtained by contacting:

(i) In relation to contesting contents of records, the Departmental Privacy Act Officer, 451 Seventh Street SW., Suite 4156, Washington, DC 20410; and,

(ii) in relation to appeals of initial denials, the HUD Departmental Privacy Appeals Officer, Office of General Counsel, Department of Housing and Urban Development, 451 Seventh Street SW., Washington, DC 20410.

Record source categories:

Subject individual; other individuals; current or previous employers; credit bureaus; financial institutions; other corporations or firms; Federal Government agencies; non-federal government (including foreign, state and local) agencies; law enforcement agencies.

Exemptions from certain provisions of the Act:

None.

[FR Doc. E7-22608 Filed 11-19-07; 8:45 am]

BILLING CODE 4210-67-P